DEPARTMENT OF THE INTERIOR

National Park Service

[NPS-WASO-NAGPRA-NPS0035780; PPWOCRADN0-PCU00RP14.R50000]

Notice of Inventory Completion: Office of the State Archaeologist, University of Iowa, Iowa City, IA

AGENCY: National Park Service, Interior.

ACTION: Notice.

SUMMARY: In accordance with the Native American Graves Protection and Repatriation Act (NAGPRA), the Office of the State Archaeologist Bioarchaeology Program, previously listed as the Office of the State Archaeologist Burials Program, has completed an inventory of human remains and has determined that there is no cultural affiliation between the human remains and any Indian Tribe. The human remains were removed from either Kay or Osage County, OK.

DATES: Disposition of the human remains and associated funerary objects in this notice may occur on or after June 5, 2023.

ADDRESSES: Dr. Lara Noldner, Office of the State Archaeologist Bioarchaeology Program, University of Iowa, 700 S Clinton Street, Iowa City, IA 52242, telephone (319) 384-0740, email lara-noldner@uiowa.edu.

SUPPLEMENTARY INFORMATION: This notice is published as part of the National Park Service's administrative responsibilities under NAGPRA. The determinations in this notice are the sole responsibility of the Office of the State Archaeologist Bioarchaeology Program. The National Park Service is not responsible for the determinations in this notice. Additional information on the determinations in this notice, including the results of consultation, can be found in the inventory or related records held by the Office of the State Archaeologist Bioarchaeology Program.

Description

Human remains representing, at minimum, one individual were removed from an unknown location near Ponca City, in either Kay or Osage County, OK. The human remains were reportedly disinterred by animals on a farm belonging to Walter Hawk (now deceased) and located near Ponca City, OK, in 1958. The farmer who collected the human remains gave them to a friend and neighboring landowner, Marvin Clark (now deceased). Subsequently, Mr. Clark passed the human remains on to a grandson, and in 1999, the grandson, who resided in Knoxville, IA, transferred them to the Office of the State Archaeologist Bioarchaeology Program. The cranial human remains (Burial Project 1291) belong to a juvenile approximately 10-11 years old. Craniofacial morphology suggests Native ancestry, and the low level of dental wear suggests the individual lived during the late pre-contact or early contact period. No known individual was identified. No associated funerary objects are present.

Aboriginal Land

The human remains and associated funerary objects in this notice were removed from known geographic locations. These locations are the aboriginal lands of one or more Indian Tribes. The following information was used to identify the aboriginal land: treaties, including the 1825 Treaty with Great and Little Osage.

Determinations

Pursuant to NAGPRA and its implementing regulations, and after consultation with the appropriate Indian Tribes, the Office of the State Archaeologist Bioarchaeology Program has determined that:

• The human remains described in this notice represent the physical remains of one individual of Native American ancestry.

• No relationship of shared group identity can be reasonably traced between the human remains and any Indian Tribe.

• The human remains described in this notice were removed from the aboriginal land of the Caddo Nation of Oklahoma; Kiowa Indian Tribe of Oklahoma; and The Osage Nation.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after June 5, 2023. If competing requests for disposition are received, the Office of the State Archaeologist Bioarchaeology Program must determine the most appropriate requestor prior to disposition. Requests for joint disposition of the human remains are considered a single request and not competing requests. The Office of the State Archaeologist Bioarchaeology Program is responsible for sending a copy of this notice to the Indian Tribes identified in this notice.

Authority: Native American Graves Protection and Repatriation Act, 25 U.S.C. 3003, and the implementing regulations, 43 CFR 10.9 and 10.11.

Dated: April 25, 2023.
Melanie O'Brien,
Manager, National NAGPRA Program.

[FR Doc. 2023-09584 Filed 5-4-23; 8:45 am]

BILLING CODE 4312-52-P